DEPARTMENT OF JUSTICE

Notice of Lodging of Amendment to Consent Decree Under the Comprehensive Environmental Response, Compensation, and Liability Act (“CERCLA”)

In accordance with 28 CFR 50.7 and 42 U.S.C. 9622(d)(2), notice is hereby given that on September 21, 2001, an Amendment to Consent Decree in United States of America, et al. v. Richard Dingwell, d/b/a The McKin Company, et al., Civil Action No. 88-0101 B, was lodged with the Untied States District Court for the District of Maine.

The original Consent Decree, entered on November 21, 1988 (“1988 Consent Decree”), settled claims of the EPA and the State of Maine pursuant to Sections 106 and 107(a) of the Comprehensive Environmental Response, Compensation, and Liability Act (“CERCLA”), 42 U.S.C. 9606, 9607(a), against Settling Parties who were alleged to be liable as generators of hazardous substances sent to the McKin Superfund Site (“Site”) in Gray, Maine. Under the 1988 Consent Decree, the Settling Parties agreed to perform the remedy set forth in a 1985 Record of Decision (“ROD”) and to pay EPA's response costs. The remedy included pumping and treating of groundwater contaminated with trichloroethylene (“TCE”), with a goal that within five years it would attain a specified performance standard. The Settling Parties operated the pump and treat system for four years without attaining the performance standard for groundwater. EPA, with the concurrence of the State of Maine, issued a Finding of Technical Impracticability in January, 2001, and in March 2001, amended the Record of Decision to modify the remedy for remediation of the groundwater that was selected in 1985. The amended Record of Decision provides for (1) institutional controls to prevent use of the groundwater; (2) monitoring of the groundwater plume to demonstrate that it is not expanding; (3) monitoring of the Royal River; and (4) performing five year reviews in accordance with § 121(c) of CERCLA, 42 U.S.C. § 9621(c). Under the Amendment to Consent Decree the Settling Parties will implement the remedy in the Amended Record of Decision, pay $650,000 to EPA for response costs, and pay $45,000 to the State for activities to protect the Royal River and its watershed. Along with other requirements related to institutional controls, the Settling Parties will pay for conservation easements along the Royal River, and purchase an insurance policy in case of continued contamination of the Royal River.

The Department of Justice will receive a period of thirty (30) days from the date of this publication comments relating to the Amendment to Consent Decree. Comments should be addressed to the Assistance Attorney General, Environment and Natural Resources Division, P.O. Box 7611, U.S. Department of Justice, Washington, DC 20044-7611, and should refer to United States of America, et al. v. Richard Dingwell, d/b/a The McKin Company, et al., Civil Action No. 88-0101 B, D.J. Ref. 90-11-2-133.

The Consent Decree may be examined at the Office of the United States Attorney for the District of Maine, 100 Middle Street, Portland, Maine 04101, and at EPA Region 1, Office of Environmental Stewardship, One Congress Street, Boston, Massachusetts (Attn: Marcia Lamel). A copy of the Consent Decree may also be obtained by mail from the Consent Decree Library, P.O. Box 7611, U.S. Department of Justice, Washington, DC 20044-7611. In requesting a copy, please enclose a check payable to the Consent Decree Library in the amount of $83.25 (25 cents per page reproduction cost) for a copy including appendices, or $7.00 (25 cents per page reproduction cost) for a copy exclusive of appendices.

Catherine R. McCabe,
Deputy Section Chief, Environmental Enforcement Section, Environment and Natural Resources Division, U.S. Department of Justice.

[FR Doc. 01-25880 Filed 10-12-01; 8:45 am]

BILLING CODE 4410-15-M